DEPARTMENT OF COMMERCE

National Oceanic and Atmospheric Administration

[RIN 0648-XY41]

Marine Mammals; File No. 15014-01

AGENCY: National Marine Fisheries Service (NMFS), National Oceanic and Atmospheric Administration (NOAA), Commerce.

ACTION: Notice; issuance of permit amendment.

SUMMARY: Notice is hereby given that Sea World, LLC, 9205 South Park Center Loop, Suite 400, Orlando, FL 32819 [Brad Andrews, Responsible Party] has been issued a minor amendment to public display Permit No. 15014.

ADDRESSES: The amendment and related documents are available for review upon written request or by appointment in the following offices:

Permits, Conservation and Education Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Laura Morse or Jennifer Skidmore, (301) 427-8401.

SUPPLEMENTARY INFORMATION: The requested amendment has been granted under the authority of the Marine Mammal Protection Act of 1972, as amended (16 U.S.C. 1361 et seq.) and the regulations governing the taking and importing of marine mammals (50 CFR Part 216).

The original permit (No. 15014), issued on September 2, 2010 (75 FR 55307) authorized import one pilot whale (Globicephala macrorhynchus) for public display through September 03, 2011. The minor amendment (No. 15014-01) extends the duration of the permit through September 03, 2012, but does not change any other terms or conditions of the permit.

Dated: July 6, 2011.
P. Michael Payne,
Chief, Permits, Conservation and Education Division, Office of Protected Resources, National Marine Fisheries Service.

[FR Doc. 2011-17343 Filed 7-8-11; 8:45 am]

BILLING CODE 3510-22-P